EXPORT-IMPORT BANK OF THE U.S.

[Public Notice 2011-0008]

Agency Information Collection Activities: Comment Request

Correction

In notice document 2011-2039 appearing on page 5374 in the issue of Monday, January 31, 2011 make the following correction:

On page 5374, in the third column, in the DATES section, in the second and third lines, “(insert 30 days after publication)” should read “March 2, 2011.”

[FR Doc. C1-2011-2039 Filed 2-3-11; 8:45 am]

BILLING CODE 1505-01-D